DEPARTMENT OF AGRICULTURE

Forest Service

Pineknot Shortleaf Pine Restoration Project, Mark Twain National Forest, Carter County, MO

AGENCY: Forest Service, USDA Forest Service.

ACTION: Notice, intent to prepare an environmental impact statement.

SUMMARY: The 10,831 acre Pineknot project area is located on National Forest lands within the Current River watershed south of Fremont, Missouri and southwest of Van Buren, Missouri T26N, R1W sections 18-20, 29-32 and T26N, R2W sections 13-16 and 21-36, Fifth Principal Meridian.

The Forest Service will prepare an environmental impact statement (EIS) to analyze and disclose the effects of restoring a closed, densely stocked shortleaf pine forest to the open pine woodland conditions described by early explorers in southern Missouri.

The primary purpose of this project is restoration of a large landscape (around 10,000-acre) of native shortleaf pine community in the Ozarks of southern Missouri. A secondary purpose of this project is to showcase a federal, state, and private partnership to manage a native, biologically diverse forest ecosystem that can provide a sustainable source of revenue. Additionally, analysis will be conducted to determine an appropriate road system for this project.

DATES: Initial comments concerning the scope of this analysis should be received on or before June 7, 2001 to receive timely consideration in the preparation of the draft EIS.

ADDRESSES: Send written comments and suggestions on the proposed action or requests to be placed on the project mailing list to: Jerry Bird, District Ranger, Doniphan/Eleven Point District, Rt. 1, Box 1908, Winona, Missouri 6558. E-mail should have a subject heading that reads “NEPA Doniphan” and be sent to: mailroom r9 mark twain@fs.fed.us

FOR FURTHER INFORMATION CONTACT: Jody Eberly, Project Leader, Doniphan/Eleven Point District, Rt. 1, Box 1908, Winona, Missouri 65588, phone (573) 325-4233, FAX (573) 325-4325.

SUPPLEMENTARY INFORMATION: The shortleaf pine community on the Mark Twain National Forest is unique to southern Missouri and exists nowhere else in the world. Although shortleaf pine is at the northern edge of its range in the southern Missouri Ozarks, it actually achieves its optimum growth rate here. And while shortleaf pine occurs as a co-dominant in other areas of the country, it is the only native pine species in the Missouri Ozarks and the dominant member of the pine community.

Historically, shortleaf pine covered almost 6.6 million acres in the Missouri Ozark Highlands. About 10% of that remains today. The Doniphan/Eleven Point Ranger District is in the heart of the historic shortleaf pine range. About 30% of the district is composed of shortleaf pine and pine/oak forest communities.

Over a decade of past management of small areas (50-200 acres) on the district has demonstrated that biological diversity can be increased in these communities by reducing the canopy cover of overstory trees, and conducting periodic prescribed burning. Nongovernmental partners, including The Nature Conservancy and National Wild Turkey Federation were so impressed by the results on these smaller areas; they contacted the Forest Service to see if a larger landscape project was possible. Partners who have already contributed time, funding, and expertise to this project include: The Nature Conservancy, The National Wild Turkey Federation, Bat Conservation International, Missouri Department of Conservation and Ozark National Scenic Riverways (National Park Service). The project has been considered worthy of special funding by Senator Kit Bond of Missouri.

Five units on the Doniphan/Eleven Point District of the Mark Twain National Forest were evaluated during 1999-2000. The Pineknot area was selected because it was the largest of the five units, had the least amount of private land interspersed with National Forest land, is almost 50% pine and oak pine, had a high potential for restoration, offers good possibilities for natural fire control lines, is easily accessible, and is located where smoke management will be relatively easy.

An EIS is being prepared for this project because we anticipate significant environmental and social benefits as a result of the activities proposed. Because of this, an EIS is the appropriate way to meet our obligation to the public for disclosure of effects of this project. An EIS will also give the responsible official a clear basis for making this decision.

Objectives of the proposed action are to increase the proportion of shortleaf pine in the project area, increase the growth rate of both young and mature pine trees, increase the spacing between trees to open the canopy and allow sunlight to reach the ground, increase the number and types of native herbaceous ground vegetation, and enhance people's enjoyment of the pine woodlands through various recreation opportunities. Part of the analysis will focus on determining the appropriate road system for this project area to support various resource and recreation needs. Activities proposed to meet these objectives include:

(1) Prescribed burning of 6,454 acres in seven units.

(2) Control of invasive/exotic plant species where they are encountered through the most effective measure for that species (including manual, mechanical, herbicide, or prescribed fire).

(3) Clean up of illegal garbage dumps where they are encountered.

(4) Development of a 5.5-mile interpretive drive through the project area.

(5) Improving 22 dispersed hunter camps by providing fire rings and lantern posts.

(6) Development of a ½-mile walking trail with interpretive signs.

(7) Development of a “watchable wildlife” brochure highlighting species that may be seen in the project area.

(8) Precommercial thin of 377 acres of young pine and oak-pine to encourage growth and increase the proportion of pine.

(9) Selective thinning of 1171 acres of pine and oak-pine to encourage growth and increase the proportion of pine.

(10) Harvest 15 acres by shelterwood preparation to regenerate a pine stand.

(11) Maintain 15.9 miles of Forest System roads to provide safe public access to the project area.

The expected results of project activities are that approximately 10,800 acres of shortleaf pine community will be restored to the open woodland condition typical of this natural community before the logging boom of the late 1800's and early 1900's. A fire regime will be reestablished over a landscape scale at the approximate intensity and interval with which this community evolved. The extent of re-introduction of fire as a primary disturbance force will depend in part on the ability of fire managers to effectively and safely conduct prescribed burns.

With restoration of open pine woodlands, we expect at least two and possibly more species will be reestablished in their former ranges. Bachman's sparrow and brown-headed nuthatch both use the type of open pine woodland that we are trying to reestablish. In addition, there are many plant species that may reappear in treated areas. The addition of these birds and plants back to Missouri's landscape will attract serious birders and botanists who would like to add these species to their life lists.

An increase in the quantity and species diversity of ground flora will create additional food sources for both bobwhite quail, white-tailed deer, and eastern wild turkey. This type habitat will provide a different hunting experience (open woodland as opposed to farm fields and/or closed woodlands) than that typically associated with upland bird and deer hunting in Missouri.

Several eastern forest bat species forage among upper and mid-story tree canopies. The proposed action would create more open foraging conditions that may be beneficial to the federally endangered Indiana bat. This bat prefers foraging where there is about 50-70% canopy closure (which is about the objective for this project). Snags created through prescribed burning will be located where solar exposure makes them ideal for bat roost trees.

While the primary focus of the analysis is to identify activities to accomplish ecological restoration other activities that enhance recreational opportunities, result in better water quality, or move the area toward the Forest Plan's desired future condition (Forest Plan pages IV 125-131) may also be considered in the draft and/or final EIS.

The scope of this analysis is limited to those activiites related to the purpose and need and measures necessary to mitigate the effects these activities may have on the environment. The decision will include if, when, how,and where to schedule restoration activities, recreation opportunity enhancement, interpretive activities, water quality improvement actions, resource protection measures, monitoring, and other follow-up activities. The appropriate road system for this project area will also be determined.

Public participation will be an important part of the project, commencing with the EIS initial scoping process (40 CFR 1 501.7), which starts with publication of this notice and continues for the next 30 days. In addition, the public is encouraged to visit with the District Ranger and Project Leader at any time during the analysis and prior to the decision. The Forest Service will be seeking information, comments, and assistance from Federal, State, and local agencies, Indian Tribes, landowners adjacent to the project area, and other individuals or organizations that may be interested in or affected by the proposed action.

Comments from the public and other agencies will be used in preparation of the draft EIS. The scoping process will be used to: identify potential issues; identify additional alternatives to the proposed action; and, identify potential environmental effects of the proposed action and alternatives (i.e. direct, indirect, and cumulative effects).

While public participation in this analysis is welcome at any time, comments received within 30 days of the publication of this notice will be especially useful in the preparation of the draft EIS, which is expected to be filed with the Environmental Protection Agency and available for public review in September 2001. A 45-day comment period will follow publication of a Notice of Availability of the draft EIS in the Federal Register. The comments received will be analyzed and considered in preparation of the final EIS, which we expect to file in December 2001. A Record of Decision will be issued not less than 30 days after publication of a Notice of Availability of the final EIS in the Federal Register.

The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDS, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F.Supp. 1334, 1338 (E.D. Wis., 1980). Because of these court rulings, it is very important that those interested in this proposed action participate by the close of the 45-day comment period of the draft EIS in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

The responsible official for this environmental impact statement is Randy Moore, Forest Supervisor, Mark Twain National Forest.

Dated: April 20, 2001.
Sharon Metzler,
Acting Deputy Forest Supervisor, Mark Twain National Forest, 401 Fairgrounds Road, Rolla, MO 65401.

[FR Doc. 01-11445 Filed 5-7-01; 8:45 am]

BILLING CODE 3410-11-M